CONSUMER PRODUCT SAFETY COMMISSION

16 CFR Part 1218

RIN 3041-AC81

Safety Standard for Bassinets and Cradles

AGENCY: Consumer Product Safety Commission.

ACTION: Notice of reopening of comment period.

SUMMARY: The Consumer Product Safety Commission (“CPSC” or “Commission”) is reopening the comment period for its proposed rule on the Safety Standard for Bassinets and Cradles. The reopened comment period will expire on September 10, 2010.

DATES: Written comments in response to this document must be received by the Commission no later than September 10, 2010.

ADDRESSES: You may submit comments, identified by Docket No. CPSC-2010-0028, by any of the following methods:

Electronic Submissions

Submit electronic comments in the following way: Federal eRulemaking Portal: http://www.regulations.gov. Follow the instructions for submitting comments. To ensure timely processing of comments, the Commission is no longer accepting comments submitted by electronic mail (e-mail) except through http://www.regulations.gov.

Written Submissions

Submit written submissions in the following way:

Mail/Hand delivery/Courier (for paper (preferably in five copies), disk, or CD-ROM submissions), to: Office of the Secretary, Consumer Product Safety Commission, Room 502, 4330 East West Highway, Bethesda, MD 20814; telephone (301) 504-7923.

Instructions: All submissions received must include the agency name and docket number for this rulemaking. All comments received may be posted without change, including any personal identifiers, contact information, or other personal information provided, to http://www.regulations.gov. Do not submit confidential business information, trade secret information, or other sensitive or protected information electronically; if furnished at all, such information should be submitted in writing.

Docket: For access to the docket to read background comments or comments received, go to http://www.regulations.gov.

FOR FURTHER INFORMATION CONTACT: For information about submitting comments, call or write to Rockelle Hammond, Office of the Secretary, Consumer Product Safety Commission, Bethesda, MD 20814; telephone (301) 504-6833.

SUPPLEMENTARY INFORMATION: On April 28, 2010, the Commission published a notice of proposed rulemaking (“NPR”) in the Federal Register titled, “Safety Standard for Bassinets and Cradles” (75 FR 22303). The Commission issued the NPR pursuant to section 104(b) of the Consumer Product Safety Improvement Act of 2008 (“CPSIA”) which requires the Commission to promulgate consumer product safety standards for durable infant or toddler products. These standards are to be “substantially the same as” applicable voluntary standards or more stringent than the voluntary standard if the Commission concludes that more stringent requirements would further reduce the risk of injury associated with the product. The NPR proposed a more stringent safety standard for bassinets and cradles that will further reduce the risk of injury associated with these products. The NPR provided a 75-day public comment period which ended on July 12, 2010.

Although the NPR was posted on the CPSC's Web site at the same time it was published in the Federal Register, the NPR was not posted on the regulations.gov Web site until June 23, 2010. Additionally, after publication of the NPR, Commission staff met with various parties concerning test methods described in the NPR. The Commission is placing summaries of those meetings into the administrative record. To ensure that all interested parties have adequate notice of this NPR and the meeting summaries and the ability to comment on them, the Commission is reopening the docket to continue to receive public comments until September 10, 2010.

Dated: July 14, 2010.
Todd A. Stevenson,
Secretary, Consumer Product Safety Commission.

[FR Doc. 2010-17596 Filed 7-19-10; 8:45 am]

BILLING CODE 6355-01-P